DEPARTMENT OF DEFENSE

Office of the Secretary

Uniform Formulary Beneficiary Advisory Panel; Notice of Federal Advisory Committee Meeting

AGENCY: Under Secretary of Defense for Personnel and Readiness, Department of Defense (DoD).

ACTION: Notice of Federal Advisory Committee meeting.

SUMMARY: The DoD is publishing this notice to announce that the following Federal Advisory Committee meeting of the Uniform Formulary Beneficiary Advisory Panel (UFBAP) will take place.

DATES: Open to the public Wednesday, April 1, 2020, from 9:00 a.m. to 12:00 p.m.

ADDRESSES: The address of the open meeting is the Naval Heritage Center Theater, 701 Pennsylvania Avenue NW, Washington, DC 20004.

FOR FURTHER INFORMATION CONTACT: Colonel Paul J. Hoerner, U.S. Air Force, 703-681-2890 (Voice), None (Facsimile), dha.ncr.j-6.mbx.baprequests@mail.mil (Email). Mailing address is 7700 Arlington Boulevard, Suite 5101, Falls Church, VA 22042-5101. Website: https://health.mil/bap. The most up-to-date changes to the meeting agenda can be found on the website.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

The UFBAP will review and comment on recommendations made to the Director of the Defense Health Agency, by the Pharmacy and Therapeutics Committee, regarding the Uniform Formulary.

Purpose of the Meeting: The DoD is publishing this notice to announce that the following Federal Advisory Committee meeting of the UFBAP will take place.

Agenda: Wednesday, April 1, 2020, from 9:00 am to 12:00 pm

1. Sign-In

2. Welcome and Opening Remarks

3. Scheduled Therapeutic Class Reviews (Comments will follow each agenda item)

a. Pain Agents—Non-Steroidal Anti-Inflammatory Drug (NSAID)

b. Pain Agents—Topical Pain

4. Newly Approved Drugs Review

5. Pertinent Utilization Management Issues

6. UFBAP Discussions and Vote

Meeting Accessibility: Pursuant to 5 U.S.C. 552b, as amended, and 41 CFR 102-3.140 through 102-3.165, this meeting is open to the public, subject to the availability of space. Seating is limited and will be provided to the first 220 people. All persons must sign in legibly.

Written Statements: Pursuant to 41 CFR 102-3.140, and section 10(a)(3) of FACA, interested persons or organizations may submit written statements to the UFBAP about its mission and/or the agenda to be addressed in this public meeting. Written statements should be submitted to the UFBAP's Designated Federal Officer (DFO). The DFO's contact information can be found in the FOR FURTHER INFORMATION CONTACT section of this notice. Written comments or statements must be received by the UFBAP's DFO at least five (5) business days prior to the meeting so they may be made available to the UFBAP for its consideration prior to the meeting. The DFO will review all submitted written statements and provide copies to all UFBAP members.

Dated: February 20, 2020.
Aaron T. Siegel,
Alternate OSD Federal Register Liaison Officer, Department of Defense.

[FR Doc. 2020-03788 Filed 2-25-20; 8:45 am]

BILLING CODE 5001-06-P